DEPARTMENT OF THE INTERIOR

Fish and Wildlife Service

[FWS-R1-R-2010-N157; 1265-0000-10137-S3]

Hakalau Forest National Wildlife Refuge, Hawai`i County, HI; Comprehensive Conservation Plan and Environmental Assessment

AGENCY: Fish and Wildlife Service, Interior.

ACTION: Notice of availability; request for comments.

SUMMARY: We, the U.S. Fish and Wildlife Service (Service), announce the availability of our draft comprehensive conservation plan and environmental assessment (Draft CCP/EA) for the Hakalau Forest National Wildlife Refuge (refuge) for public review and comment. The Draft CCP/EA describes our proposal for managing the refuge for the next 15 years.

DATES: To ensure consideration, please send us your written comments by September 15, 2010.

ADDRESSES: Address comments, questions, and requests for further information to Jim Kraus, Refuge Manager, Hakalau Forest National Wildlife Refuge, 60 Nowelo Street, Suite 100; Hilo, HI 96720. Alternatively, you may fax comments to the refuge at (808) 443-2304, or e-mail them to FW1PlanningComments@fws.gov. Include “Hakalau Forest Refuge CCP” in the subject line of the message. Additional information concerning the refuge is available on the Internet at http://www.fws.gov/hakalauforest/. You may request the CCP/EA for review by any of the above contact methods, or you may view or download it at http://www.fws.gov/pacific/planning.

FOR FURTHER INFORMATION CONTACT: Jim Kraus, Refuge Manager, (808) 443-2300.

SUPPLEMENTARY INFORMATION:

Introduction

With this notice, we continue the CCP process for the Hakalau Forest National Wildlife Refuge. We began this process by publishing a notice of intent in the Federal Register on February 25, 2009 (74 FR 8564).

The Hakalau Forest Refuge is located on the Island of Hawai'i. It encompasses two refuge units, the Hakalau Forest Unit and the Kona Forest Unit. The Hakalau Forest Unit was established in 1985 to protect endangered forest birds and their rainforest habitat. The Hakalau Forest Unit encompasses 32,733 acres of land, located on the eastern or windward slope of Mauna Kea, which supports a diversity of native birds and plants. The refuge's Kona Forest Unit was established in 1997, on the southwestern or leeward slope of Mauna Loa, to protect native forest birds and the `alala, an endangered Hawaiian crow. The Kona Forest Unit supports diverse native bird and plant species, as well as rare habitats found in lava tubes and lava tube skylights.

Background

The CCP Process

The CCP/EA was prepared under the National Wildlife Refuge System Administration Act of 1966 (16 U.S.C. 668dd-668ee), as amended (Refuge Administration Act), and the National Environmental Policy Act of 1969 (42 U.S.C. 4321 et seq.) (NEPA). The Refuge Administration Act requires us to develop a CCP for each national wildlife refuge. The purpose of developing a CCP is to provide refuge managers a 15-year plan for achieving refuge purposes and contributing toward the mission of the National Wildlife Refuge System, consistent with sound principles of fish and wildlife conservation, management, legal mandates, and our policies. In addition to outlining broad management direction for conserving wildlife and their habitats, CCPs identify wildlife-dependent recreational opportunities available to the public, including hunting, fishing, wildlife observation and photography, and environmental education and interpretation. We will review and update the CCPs at least every 15 years in accordance with the Refuge Administration Act.

Public Outreach

We began the public scoping phase of the CCP planning process by publishing a notice of intent in the Federal Register on February 25, 2009 (74 FR 8564), announcing our intention to complete a CCP/EA for the refuge, inviting the public to two open house meetings, and requesting public comments. Simultaneously, we distributed Planning Update 1 to our mailing list announcing the beginning of the CCP planning process, requesting comments on refuge management issues, and inviting the public to attend two open house meetings. The meetings were held March 3 and 4, 2009, in Hilo, HI, and Captain Cook, HI, respectively.

In October 2009 we distributed Planning Update 2. In Planning Update 2 we provided a summary of the comments we received and draft vision statements. The public comments we received throughout the planning process were considered during development of the Draft CCP/EA.

Draft Alternatives We Are Considering

We drafted three alternatives for managing the refuge. All of the alternatives will include actions to control invasive species, develop or improve partnerships, continue coordination with Hawai'i's Department of Forestry and Wildlife, develop volunteer opportunities, and construct a fence around the Kona Forest Unit. Brief descriptions of the alternatives follow.

Alternative A

Alternative A is the no-action alternative. We would continue existing refuge management activities under Alternative A, including fencing projects currently under way at the Kona Forest Unit. Staff would conduct limited additional restoration of various koa forest habitats. Volunteer opportunities to assist refuge staff with planting native plants would continue. Refuge staff would provide limited outreach regarding management activities.

Alternative B

Alternative B is the preferred alternative. We would increase reforestation, restoration, and ungulate removal efforts under Alternative B. Additional areas in both units would be protected through fencing and ungulate removal. Refuge staff, with the assistance of volunteers, would increase efforts to restore understory species in reforested areas. Staff would provide additional opportunities for outreach and environmental education and interpretation. We would work with partners and neighboring landowners to explore habitat protection and restoration opportunities, including the potential for refuge boundary expansion. Opportunities for additional land acquisition would focus on protection of forest birds and their habitats in response to climate change concerns.

Alternative C

Under Alternative C, we would focus on maintaining existing koa forest and allowing natural regeneration of the understory on the Kona Forest Unit. We would place less emphasis on ungulate removal and maintenance. Additional grassland areas would be maintained for foraging and nesting nēnē. We would open additional areas of the Hakalau Forest Unit to the public. Fewer volunteer opportunities would be provided. As in Alternative B, we would explore habitat protection opportunities.

Public Availability of Documents

We encourage you to stay involved in the CCP planning process by reviewing and commenting on the proposals we have developed in the Draft CCP/EA. Copies of the Draft CCP/EA are available by request from Jim Kraus or via the internet (see ADDRESSES).

Next Steps

After this comment period ends, we will analyze the comments and address them in the final CCP.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: August 10, 2010.
Theresa E. Rabot,
Acting Regional Director, Region 1, Portland, Oregon.

[FR Doc. 2010-21289 Filed 8-25-10; 8:45 am]

BILLING CODE 4310-55-P